MEDICARE PAYMENT ADVISORY COMMISSION

Commission Meeting

August 30, 2005.

AGENCY: Medicare Payment Advisory Commission.

ACTION: Notice of meeting.

SUMMARY: The Commission will hold its next public meeting on Thursday, September 8, 2005, and Friday, September 9, 2005, at the Ronald Reagan Building, International Trade Center, 1300 Pennsylvania Avenue, NW., Washington, DC. The meeting is tentatively scheduled to begin at 11 a.m. on September 8, and at 9:15 a.m. on September 9.

Topics for discussion include findings on two congressionally mandated studies: home health margins, and payments for oncology drugs and administration services in the Medicare system. The Commission will also discuss issues related to the Medicare wage index, outpatient therapy, valuing services in the physician fee schedule, and physician resource use. The Commission will also host a panel on quality measures in managed care organizations.

Agendas will be e-mailed approximately one week prior to the meeting. The final agenda will be available on the Commission's Web site (http://www.medpac.gov).

This will be the last notice placed in the Federal Register by the Commission. We will continue to e-mail meeting agendas, which you can sign up to receive at http://www.medpac.gov. They will also be posted on our Web site. In addition, we will now e-mail a meeting notice two weeks prior to the meeting date. If you have any comments on this action, please contact Annissa McDonald at amcdonald@medpac.gov or (202) 220-3700.

ADDRESSES: MedPAC's address is: 601 New Jersey Avenue, NW., Suite 9000, Washington, DC 20001. The telephone number is (202) 220-3700.

Mark E. Miller,
Executive Director.

[FR Doc. 05-17567 Filed 9-2-05; 8:45 am]

BILLING CODE 6820-BW-M